DEPARTMENT OF JUSTICE

Notice of Lodging of Proposed Consent Decree Under the Clean Water Act

On December 15, 2020, the Department of Justice lodged a proposed consent decree with the United States District Court for the Central District of California in the lawsuit entitled United States v. Parker-Hannifin Corp., Civil Action No. 2:20-cv-11332.

The United States filed this lawsuit under the Clean Water Act. The United States' complaint seeks injunctive relief and civil penalties for violations of pretreatment standards that govern wastewater discharges to a publicly owned treatment works at the defendant's membrane and filter manufacturing facility in Oxnard, California. The consent decree requires the defendant to perform injunctive relief and pay a $390,000 civil penalty.

The publication of this notice opens a period for public comment on the consent decree. Comments should be addressed to the Assistant Attorney General, Environment and Natural Resources Division, and should refer to United States v. Parker-Hannifin Corp., D.J. Ref. No. 90-5-1-1-12081. All comments must be submitted no later than thirty (30) days after the publication date of this notice. Comments may be submitted either by email or by mail:

To submit comments: | Send them to:
By e-mail | pubcomment-ees.enrd@usdoj.gov
By mail | Assistant Attorney General, U.S. DOJ—ENR, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $8.00 (25 cents per page reproduction cost) payable to the United States Treasury.

Lori Jonas,
Assistant Section Chief, Environmental Enforcement Section, Environment and Natural Resources Division.

[FR Doc. 2020-28045 Filed 12-18-20; 8:45 am]

BILLING CODE 4410-15-P